ENVIRONMENTAL PROTECTION AGENCY

[FRL-8459-9]

Proposed Administrative Settlement Agreement Under Section 122(h) of the Comprehensive Environmental Response, Compensation, and Liability Act for the Cornell-Dubilier Electronics, Inc. Superfund Site, Located in South Plainfield, Middlesex County, NJ

AGENCY: Environmental Protection Agency.

ACTION: Notice of proposed administrative settlement and opportunity for public comment.

SUMMARY: The Evironmental Protection Agency (EPA) is proposing to enter into an administrative settlement agreement that resolves certain claims under the Comprehensive Environmental Response, Compensation, and Liability Act of 1980, as amended (CERCLA) pursuant to section 122(h) of CERCLA, 42 U.S.C 9622(h). In accordance with section 122(i) of CERCLA, 42 U.S.C. 9622(i), this notice is being published to inform the public of the proposed settlement agreement and of the opportunity to comment.

Under the proposed administrative settlement, the settling party, D.S.C. of Newark Enterprises, Inc. (“DSC”) will make a payment of $203,249 to resolve its liability for “Past Response Costs,” which are defined as those costs that EPA has paid at or in connection with a removal action performed at 126 Spicer Avenue, a residential property in South Plainfield, New Jersey through December 31, 2006, plus accrued interest on those costs. DSC will also make a payment of $25,000 to resolve its liability for violation of an administrative order on consent (“AOC”) that DSC entered into with EPA to perform the removal activities in question.

In addition, the proposed administrative settlement provides that EPA may enter onto DSC's property—a former capacitor manufacturing facility—to perform the remedial action called for in the Record of Decision for Operable Unit 2 of the Site, which includes soil excavation and demolition of contaminated buildings.

For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region 2, 290 Broadway, 17th floor New York, New York 10007-1866.

DATES: Comments must be provided by September 24, 2007.

ADDRESSES: Comments should reference the Cornell-Dubilier Electronics, Inc. Superfund Site, EPA Docket No. CERCLA-02-2007-2014, and should be sent to the U.S. Environmental Protection Agency, Office of Regional Counsel, New Jersey Superfund Branch, 290 Broadway—17th Floor, New York, NY 10007.

FOR FURTHER INFORMATION CONTACT: Sarah Flanagan, Assistant Regional Counsel, New Jersey Superfund Branch, Office of Regional Counsel, U.S. Environmental Protection Agency, 17th Floor, 290 Broadway, New York, New York 10007-1866. Telephone: 212-637-3136.

SUPPLEMENTARY INFORMATION: A copy of the proposed administrative settlement, as well as background information relating to the settlement, may be obtained from Sarah Flanagan, Assistant Regional Counsel, New Jersey Superfund Branch, Office of Regional Counsel, U.S. Environmental Protection Agency, 17th Floor, 290 Broadway, New York, New York 10007-1866. Telephone: 212-637-3136.

Dated: August 13, 2007.
John S. Frisco,
Acting Division Director, Emergency and Remedial Response Division.

[FR Doc. E7-16821 Filed 8-23-07; 8:45 am]

BILLING CODE 6560-50-P